DEPARTMENT OF ENERGY

Federal Energy Regulatory Commission

Combined Notice of Filings #2 (October 9, 2015)

Take notice that the Commission received the following electric rate filings:

Docket Numbers: ER12-309-007.

Applicants: Midcontinent Independent System Operator, Inc.

Description: Compliance filing: 2015-10-09_Compliance Net Zero Attachment X Filing to be effective 1/1/2012.

Filed Date: 10/9/15.

Accession Number: 20151009-5237.

Comments Due: 5 p.m. ET 10/30/15.

Docket Numbers: ER16-45-000.

Applicants: NorthWestern Corporation.

Description: Initial rate filing: SA 759—Agreement with Tessenderlo Kerley Services re Jupiter Sulphur Project to be effective 10/10/2015.

Filed Date: 10/9/15.

Accession Number: 20151009-5231

Comments Due: 5 p.m. ET 10/30/15.

Docket Numbers: ER16-46-000.

Applicants: PJM Interconnection, L.L.C.

Description: Section 205(d) Rate Filing: First Revised Interconnection Service Agreement No. 3837, Queue No. X4-048 to be effective 9/14/2015.

Filed Date: 10/9/15.

Accession Number: 20151009-5260.

Comments Due: 5 p.m. ET 10/30/15.

Take notice that the Commission received the following land acquisition reports:

Docket Numbers: LA15-3-000.

Applicants: MidAmerican Energy Company.

Description: Quarterly Land Acquisition Report of MidAmerican Energy Company, et al.

Filed Date: 10/9/15.

Accession Number: 20151009-5111.

Comments Due: 5 p.m. ET 10/30/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2015-26798 Filed 10-21-15; 8:45 am]

BILLING CODE P